DEPARTMENT OF THE INTERIOR

National Park Service

[N6887; NPS-WASO-NAGPRA-NPS0041885; PPWOCRADN0-PCU00RP14.R50000]

Notice of Intended Disposition: U.S. Army Corps of Engineers, Walla Walla District, Walla Walla, WA

AGENCY: National Park Service, Interior.

ACTION: Notice.

SUMMARY: In accordance with the Native American Graves Protection and Repatriation Act (NAGPRA), the U.S. Army Corps of Engineers, Walla Walla District intends to carry out the disposition of human remains removed from Federal or Tribal lands to the lineal descendants, Indian Tribe, or Native Hawaiian organization with priority for disposition in this notice.

DATES: Disposition of the human remains in this notice may occur on or after February 27, 2026. If no claim for disposition is received by January 28, 2027, the human remains in this notice will become unclaimed human remains.

ADDRESSES: Send written claims for disposition of the human remains in this notice to Scott M. Hall, Supervisory Archaeologist, U.S. Army Corps of Engineers, Walla Walla District, 201 North Third Avenue, Walla Walla, WA 99362-1876, email scott.m.hall@usace.army.mil.

SUPPLEMENTARY INFORMATION: This notice is published as part of the National Park Service's administrative responsibilities under NAGPRA. The determinations in this notice are the sole responsibility of the U.S. Army Corps of Engineers, Walla Walla District and additional information on the human remains in this notice, including the results of consultation, can be found in the related records. The National Park Service is not responsible for the identifications in this notice.

Abstract of Information Available

Based on the information available, human remains representing, at least one individual have been reasonably identified. No associated funerary objects are present. The human remains are of one sub-adult, found eroding from the riverbank near Finley, in Benton County, Washington. The remains were discovered by a member of the public in 2010 and were transferred to law enforcement personnel in 2025 as part of a police investigation.

Determinations

The U.S. Army Corps of Engineers, Walla Walla District has determined that:

• The human remains described in this notice represent the physical remains of one individual of Native American ancestry.

• The Confederated Tribes and Bands of the Yakama Nation; Confederated Tribes of the Colville Reservation; Confederated Tribes of the Umatilla Indian Reservation; and the Nez Perce Tribe have priority for disposition of the human remains described in this notice.

Claims for Disposition

Written claims for disposition of the human remains in this notice must be sent to the appropriate official identified in this notice under ADDRESSES. If no claim for disposition is received by January 28, 2027, the human remains in this notice will become unclaimed human remains. Claims for disposition may be submitted by:

1. Any lineal descendant, Indian Tribe, or Native Hawaiian organization identified in this notice and, if joined to a request from one or more of the Indian Tribes, the Wanapum Band of Priest Rapids, a non-federally recognized Indian group.

2. Any lineal descendant, Indian Tribe, or Native Hawaiian organization not identified in this notice who shows, by a preponderance of the evidence, that they have priority for disposition.

Disposition of the human remains in this notice may occur on or after February 27, 2026. If competing claims for disposition are received, the U.S Army Corps of Engineers, Walla Walla District must determine the most appropriate claimant prior to disposition. Requests for joint disposition of the human remains are considered a single request and not competing requests. The U.S. Army Corps of Engineers, Walla Walla District is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: January 15, 2026.
Melanie O'Brien,
Manager, National NAGPRA Program.

[FR Doc. 2026-01673 Filed 1-27-26; 8:45 am]

BILLING CODE 4312-52-P